DEPARTMENT OF JUSTICE

[OMB Number 1121-0064]

Agency Information Collection Activities; Proposed eCollection eComments Requested; Extension and Minor Revision of Existing Collection; Annual Parole Survey, Annual Probation Survey, and Annual Probation Survey (Short Form)

AGENCY: Bureau of Justice Statistics, Department of Justice.

ACTION: 60-day notice.

SUMMARY: The Department of Justice (DOJ), Office of Justice Programs (OJP), Bureau of Justice Statistics (BJS) will be submitting the following information collection request to the Office of Management and Budget (OMB) for review and approval in accordance with the Paperwork Reduction Act of 1995. The proposed information collection is published to obtain comments from the public and affected agencies.

DATES: Comments are encouraged and will be accepted for 60 days until May 27, 2014.

FOR FURTHER INFORMATION CONTACT: If you have comments especially on the estimated public burden or associated response time, suggestions, or need a copy of the proposed information collection instrument with instructions or additional information, please contact Tom Bonczar, Statistician, Bureau of Justice Statistics, 810 Seventh St. NW., Washington, DC 20531 (email Tom.Bonczar@usdoj.gov; telephone 202-616-3615).

SUPPLEMENTARY INFORMATION: This process is conducted in accordance with 5 CFR 1320.10. Written comments and suggestions from the public and affected agencies concerning the proposed collection of information should address one or more of the following four points:

(1) Evaluate whether the proposed collection of information is necessary for the proper performance of the functions of the Bureau of Justice Statistics, including whether the information will have practical utility;

(2) Evaluate the accuracy of the agency's estimate of the burden of the proposed collection of information, including the validity of the methodology and assumptions used;

(3) Evaluate whether and if so how the quality, utility, and clarity of the information to be collected can be enhanced; and

(4) Minimize the burden of the collection of information on those who are to respond, including through the use of appropriate automated, electronic, mechanical, or other technological collection techniques or other forms of information technology, e.g., permitting electronic submission of responses.

Overview of This Information Collection

(1) Type of information collection: Extension and minor revision of currently approved collection.

(2) The title of the Form/Collection: Annual Parole Survey, Annual Probation Survey, and Annual Probation Survey (Short Form).

(3) The agency form number, if any, and the applicable component of the Department sponsoring the collection: Forms: CJ-7 Annual Parole Survey; CJ-8 Annual Probation Survey; and CJ-8A Annual Probation Survey (Short Form). Corrections Statistics Program, Bureau of Justice Statistics, Office of Justice Programs, United States Department of Justice.

(4) Affected public who will be asked to respond, as well as a brief abstract: Primary: state departments of corrections or state probation and parole authorities. Others: The Federal Bureau of Prisons, city and county courts and probation offices for which a central reporting authority does not exist. For the CJ-7 form, the affected public consists of 53 respondents including 51 central reporters (two state respondents in Pennsylvania, and one each from the remaining states), the District of Columbia, and the Federal Bureau of Prisons responsible for keeping records on parolees. For the CJ-8 form, the affected public includes 307 reporters including 51 state respondents (two state respondents in Pennsylvania, and one each from the remaining states), the District of Columbia, the Federal Bureau of Prisons, and 254 from local authorities responsible for keeping records on probationers. For the CJ-8A form, the affected public includes 161 reporters from local authorities responsible for keeping records on probationers. The Annual Parole Survey and Annual Probation surveys have been used since 1977 to collect annual yearend counts and yearly movements of community corrections populations; characteristics of the community supervision population, such as gender, racial composition, ethnicity, conviction status, offense, supervision status; outcomes including the number of revocations and the re-incarceration rate of parolees (i.e., recidivism measures); and the numbers of probationers and parolees who had their location tracked through a Global Positioning System (GPS). Starting with the 2014 Annual Probation Survey, two questions will be added to assess the scope of probation agencies being included by respondents and the levels of court responsible for referring adults to probation supervision. The Bureau of Justice Statistics uses this information in published reports and for the U.S. Congress, Executive Office of the President, practitioners, researchers, students, the media, and others interested in criminal justice statistics.

(5) An estimate of the total number of respondents and the amount of time estimated for an average respondent to respond: 521 respondents each taking an average of 1.63 hours to respond.

(6) An estimate of the total public burden (in hours) associated with the collection: 848 annual burden hours.

If additional information is required contact: Jerri Murray, Department Clearance Officer, United States Department of Justice, Justice Management Division, Policy and Planning Staff, Two Constitution Square, 145 N Street NE., 3W-1407B, Washington, DC 20530.

Dated: March 25, 2014.
Jerri Murray,
Department Clearance Officer for PRA, U.S. Department of Justice.

[FR Doc. 2014-06949 Filed 3-27-14; 8:45 am]

BILLING CODE 4410-18-P